DEPARTMENT OF COMMERCE

International Trade Administration

[A-570-863]

Notice of Extension of Time Limit for Final Results of the Antidumping Duty Administrative Review and New Shipper Review: Honey from the People's Republic of China

AGENCY: Import Administration, International Trade Administration, Department of Commerce.

EFFECTIVE DATE: April 25, 2008.

FOR FURTHER INFORMATION CONTACT: Bobby Wong or Susan Pulongbarit, AD/CVD Operations, Office 9, Import Administration, International Trade Administration, U.S. Department of Commerce, 14th Street and Constitution Avenue, NW, Washington, DC 20230; telephone: (202) 482-0409 and (202) 482-4031, respectively.

SUPPLEMENTARY INFORMATION:

Background

The Department of Commerce (“the Department”) published the preliminary results of the aligned antidumping duty administrative review and new shipper review on honey from the People's Republic of China on January 16, 2008. Honey from the People's Republic of China: Preliminary Results and Partial Rescission of Antidumping Duty Administrative Review, 73 FR 2890 (January 16, 2008).

Extension of Time Limits for Final Results

Pursuant to Section 751(a)(3)(A) of the Tariff Act of 1930, as amended (“the Act”), and section 351.213(h)(1) of the Department's regulations, the Department shall issue the preliminary results of an administrative review within 245 days after the last day of the anniversary month of the date of publication of the order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

The Department has extended the deadline for parties to submit briefs in order to address several issues raised by interested parties. As a result of these extensions and the complex issues raised in this review segment, including honey valuation, the Department has determined that it is not practicable to complete the aligned administrative review and new shipper review within the current time limit.

Section 751(a)(3)(A) of the Act and section 351.213(h) of the Department's regulations allow the Department to extend the deadline for the final results of a review to a maximum of 180 days from the date on which the notice of the preliminary results was published. For the reasons noted above, the Department is extending the time limit for the completion of these final results from the current deadline of May 15, 2008 until no later than July 14, 2008, which is 180 days from the date on which the notice of the preliminary results was published.

This notice is issued and published in accordance with sections 751(a)(3)(A) and 777(i) of the Act.

Dated: April 18, 2008.
Stephen J. Claeys,
Deputy Assistant Secretary for Import Administration.

[FR Doc. E8-9143 Filed 4-24-08; 8:45 am]

BILLING CODE: 3510-DS-S